DEPARTMENT OF LABOR

Employment and Training Administration

[TA-W-50,402 and TA-W-50,402A]

Tillotson Healthcare Corporation Now Known as North Country Manufacturing, Dixville Notch, New Hampshire; Tillotson Healthcare Corporation, Rochester, New Hampshire; Amended Certification Regarding Eligibility To Apply for Worker Adjustment Assistance

In accordance with section 223 of the Trade Act of 1974 (19 U.S.C. 2273) the Department of Labor issued a Certification of Eligibility to Apply for Worker Adjustment Assistance on January 10, 2003, applicable to workers of Tillotson Healthcare Corporation, Dixville Notch, New Hampshire. The notice was published in the Federal Register on February 6, 2003 (68 FR 6211).

At the request of the State agency, the Department reviewed the certification for workers of the subject firm. The workers are engaged in the production of medical examination gloves.

New information shows that Dynarex Corporation purchased Tillotson Healthcare Corporation on January 30, 2003. The subject firms' Dixville Notch, New Hampshire location is now known as North Country Manufacturing. Workers separated from employment at the Dixville Notch, New Hampshire location had their wages reported under a separate unemployment insurance (UI) tax account for North Country Manufacturing.

Information also shows that worker separation occurred at the Rochester, New Hampshire location of Tillotson Healthcare Corporation. The workers provide distribution and warehousing services for the Dixville Notch, New Hampshire production facility of the subject firm.

Accordingly, the Department is amending the certification to properly reflect these matters.

The intent of the Department's certification is to include all workers of Tillotson Healthcare Corporation who were adversely affected by increased imports.

The amended notice applicable to TA-W-50,402 is hereby issued as follows:

“All workers of Tillotson Healthcare Corporation, now known as North Country Manufacturing, Dixville Notch, New Hampshire (TA-W-50,402) and Tillotson Healthcare Corporation, Rochester, New Hampshire (TA-W-50,402A), who became totally or partially separated from employment on or after November 21, 2001, through January 10, 2005, are eligible to apply for adjustment assistance under section 223 of the Trade Act of 1974.”

Signed at Washington, DC this 12th day of August 2003.
Elliott S. Kushner,
Certifying Officer, Division of Trade Adjustment Assistance.

[FR Doc. 03-23002 Filed 9-9-03; 8:45 am]

BILLING CODE 4510-30-P